DEPARTMENT OF TRANSPORTATION

Federal Aviation Administration

Fourteenth Meeting: RTCA Tactical Operations Committee (TOC)

AGENCY: Federal Aviation Administration (FAA), U.S. Department of Transportation (DOT).

ACTION: Notice of Fourteenth RTCA Tactical Operations Committee Meeting.

SUMMARY: The FAA is issuing this notice to advise the public of the Fourteenth RTCA Tactical Operations Committee meeting.

DATES: The meeting will be held June 23, 2016 from 9:00 a.m.-4:00 p.m.

ADDRESSES: The meeting will be held at RTCA, Inc., 1150 18th Street NW., Suite 910, Washington, DC 20036.

FOR FURTHER INFORMATION CONTACT: The RTCA Secretariat, 1150 18th Street NW., Suite 910, Washington, DC, 20036, or by telephone at (202) 833-9339, fax at (202) 833-9434, or Web site at http://www.rtca.org or Trin Mitra, TOC Secretary, RTCA, Inc., tmitra@rtca.org, (202) 330-0655.

SUPPLEMENTARY INFORMATION: Pursuant to section 10(a) (2) of the Federal Advisory Committee Act (Pub. L. 92-463, 5 U.S.C., App.), notice is hereby given for a meeting of RTCA Tactical Operations Committee. The agenda will include the following:

Thursday, June 23, 2016

1. Opening of Meeting/Introduction of TOC Members—Co Chairs Dale Wright and Bryan Quigley

2. Official Statement of Designated Federal Official—Elizabeth Ray

3. Approval of April 4, 2016 Meeting Summary

4. FAA Update—Elizabeth Ray

5. Update from Ongoing Task Groups

a. PBN Route Structure Task Group

b. Graphical TFR Task Group

6. FAA Responses from Previous Recommendations

a. Airport Construction

b. National Procedure Assessment

c. NorCal Noise Initiative

d. Caribbean Operations

e. Class B Airspace

7. Briefing on Commercial Space

8. Update on NextGen Advisory Committee (NAC)

9. Briefing on Drone Advisory Committee (DAC)

10. Other Business

11. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 19, 2016.
Latasha Robinson,
Management & Program Analyst, NextGen, Enterprise Support Services Division, Federal Aviation Administration.

[FR Doc. 2016-12214 Filed 5-23-16; 8:45 am]

BILLING CODE 4910-13-P